DEPARTMENT OF THE INTERIOR

Fish and Wildlife Service

[FWS-R4-R-2010-N134; 40136-1265-0000-S3]

Carolina Sandhills National Wildlife Refuge, Chesterfield County, SC

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for the environmental assessment for Carolina Sandhills National Wildlife Refuge (NWR). In the final CCP, we describe how we will manage this refuge for the next 15 years.

ADDRESSES: You may obtain a copy of the CCP by writing to: Ms. Allyne Askins, Refuge Manager, Carolina Sandhills NWR, 23734 U.S. Highway 1, McBee, SC 29101. The CCP may also be accessed and downloaded from the Service's Web site: http://southeast.fws.gov/planning/ under “Final Documents.”

FOR FURTHER INFORMATION CONTACT: Ms. Allyne Askins; telephone: 843-335-8350; fax: 843-335-8406; e-mail: allyne_askins@fws.gov.

SUPPLEMENTARY INFORMATION:

Introduction

With this notice, we finalize the CCP process for Carolina Sandhills NWR. We started this process through a notice in the Federal Register on August 22, 2007 (72 FR 47062).

Carolina Sandhills NWR was established by Executive Order 8067, dated March 17, 1939. This Executive Order authorized the Federal Government to purchase lands from willing sellers to restore habitats and wildlife species. Today, the 45,348-acre refuge is managed to restore the longleaf pine/wiregrass ecosystem for the benefit of the red-cockaded woodpecker (RCW) and other endangered species; to provide habitat for migratory and upland game birds; to provide opportunities for environmental education, interpretation and wildlife-dependent recreational opportunities; and to demonstrate sound land management practices that enhance natural resource conservation. The refuge is a land management demonstration refuge for the longleaf pine/wiregrass ecosystem. The refuge supports an estimated 150 active clusters of the endangered RCW, the largest population in the National Wildlife Refuge System. The refuge's primary public use is hunting; although wildlife observation, hiking, and fishing also are popular.

We announce our decision and the availability of the final CCP and FONSI for Carolina Sandhills NWR in accordance with the National Environmental Policy Act (NEPA) [40 CFR 1506.6(b)] requirements. We completed a thorough analysis of impacts on the human environment, which we included in the Draft Comprehensive Conservation Plan and Environmental Assessment (Draft CCP/EA). The CCP will guide us in managing and administering Carolina Sandhills NWR for the next 15 years. Alternative C is the foundation for the CCP.

The compatibility determinations for hunting, fishing, wildlife observation and photography, environmental education and interpretation, cooperative farming, commercial timber harvest, boating, public safety and military training, natural resource collection for personal use, cemetery upkeep, scientific research and collections, off-road vehicle use for mobility-impaired persons, outdoor recreation (e.g., bicycling, hiking, jogging, walking, mountain biking, and picnicking), camping, and horseback riding are available in the CCP.

Background

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on January 21, 2010 (75 FR 3484). We received five comments on the Draft CCP/EA.

Selected Alternative

The Draft CCP/EA identified and evaluated three alternatives for managing the refuge. After considering the comments we received and based on the professional judgment of the planning team, we selected Alternative C for implementation.

Under Alternative C, we will optimize management of native wildlife and habitat diversity (e.g., floristic communities, longleaf-wiregrass, and native grasslands) and appropriate wildlife-dependent public uses and visitor services. We will continue our focus on RCW monitoring and recovery, while managing for a suite of species. We will enhance habitat required for RCWs by (1) accelerating the transition to multi-aged management; (2) improving forest structure and composition, focusing on diversifying plantation structure to create multiple-aged classes and densities of overstory pines, while improving ground layer structure and composition; (3) using all available tools to control midstory (e.g., chemical, mechanical, and pre-commercial); (4) increasing growing season burning; and (5) considering use of fall burning for hazardous fuel reduction and seed bed preparation.

We will increase partnership activities with the South Carolina Department of Natural Resources, Cheraw State Park, and Sandhills State Forest to manage RCWs as one recovery population. We will enhance our management of the unique floristic communities on the refuge, including seepage bogs, Atlantic white cedar and cane bottoms, and old field species at Oxpen Farm. We will develop and implement habitat management response surveys to identify species response to treatments in longleaf pine and restoration in pocosin habitat sites.

We will manage 1,200 acres of grasslands for birds of conservation concern, conduct baseline population surveys of grassland birds, and survey to assess effects of habitat management. As part of grassland management and restoration, we will restore longleaf-wiregrass and native grasslands, establish native warm season grass demonstration areas, and eradicate non-native plants (e.g., fescue, love grass, and bamboo). We will also establish a seed nursery/orchard for native warm season grass and native ground cover and engage in native plant botanical research.

We will balance habitat restoration and fish and wildlife population management with enhanced visitor services. We will improve our wayside exhibits and update our Web site, encouraging families to use the refuge to pursue outdoor recreational opportunities. We will host an annual public lands and private landowner demonstration day to showcase restoration and management practices. We will work with our volunteers, partners, and friends group, to further information and technology exchange. We will target land acquisitions that will maximize ecosystem management objectives and opportunities for public use and environmental education. We will identify and evaluate important gaps and corridors to ensure landscape-level conservation and connectivity. We will search for opportunities to enter into cooperative wildlife management agreements with private landowners in the Partners for Fish and Wildlife Program focus areas. We will increase protection of visitors to the refuge.

Alternative C directs the development of programs to best achieve the refuge purpose and goals; emphasizes adaptive management; collects habitat and wildlife data; and ensures long-term achievement of refuge and Service objectives. At the same time, these management actions provide balanced levels of compatible public use opportunities consistent with existing laws, Service policies, and sound biological principles. It provides the best mix of program elements to achieve desired long-term conditions. Under this alternative, all lands under our management and direction will be protected, maintained, and enhanced to best achieve national, ecosystem, and refuge specific goals and objectives within anticipated funding and staffing levels. In addition, the action positively addresses significant issues and concerns expressed by the public.

Authority

This notice is published under the authority of the National Wildlife Refuge System Improvement Act of 1997, Public Law 105-57.

Dated: August 5, 2010.
Mark J. Musaus,
Acting Regional Director.

[FR Doc. 2010-24668 Filed 9-30-10; 8:45 am]

BILLING CODE 4310-55-P